DEPARTMENT OF HOMELAND SECURITY

Coast Guard

33 CFR Part 117

[Docket No. USCG-2017-0807]

Drawbridge Operation Regulation; Newtown Creek, New York, NY

AGENCY: Coast Guard, DHS.

ACTION: Notice of deviation from drawbridge regulation.

SUMMARY: The Coast Guard has issued a temporary deviation from the operating schedule that governs the Pulaski Bridge across Newtown Creek, mile 0.6 at New York City, New York. This deviation is necessary to facilitate planned repairs and will allow the owner to temporarily close the draw during weeknights for periods not to exceed five hours.

DATES: This deviation is effective from 12:01 a.m. on September 19, 2017 through 5 a.m. on December 30, 2017.

ADDRESSES: The docket for this deviation, USCG-2017-0807, is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email James.M.Moore2@uscg.mil.

SUPPLEMENTARY INFORMATION: The owner of the bridge, the New York City Department of Transportation, requested a temporary deviation in order to facilitate planned repairs of the bridge including replacement of the grease piping system as well as installation of new span lock shoes, steel shims and horizontal/vertical bolts.

The Pulaski Bridge across Newtown Creek, mile 0.6 at New York City, New York is a double-leaf bascule bridge with a vertical clearance of 39 feet at mean high water and 43 feet at mean low water in the closed position. The existing drawbridge operating regulations are listed at 33 CFR 117.801(g)(1)-(2).

The temporary deviation will allow the Pulaski Bridge to remain closed each Tuesday, Wednesday, Thursday, Friday and Saturday from 12:01 a.m. to 5 a.m. beginning September 19, 2017 until December 30, 2017. The waterway is transited by tug/barge traffic of various sizes. Coordination with waterway users has indicated no objections to the proposed closure of the draw.

Vessels that can pass under the bridge without an opening may do so at all times. The bridge will not be able to open for emergencies. There is no alternate route for vessels to pass.

The Coast Guard will also inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: August 31, 2017.
Christopher J. Bisignano,
Supervisory Bridge Management Specialist, First Coast Guard District.

[FR Doc. 2017-18822 Filed 9-5-17; 8:45 am]

BILLING CODE 9110-04-P